DEPARTMENT OF COMMERCE

National Oceanic and Atmospheric Administration

[I.D. 012407A]

Mid-Atlantic Fishery Management Council; Public Meetings

AGENCY: National Marine Fisheries Service (NMFS), National Oceanic and Atmospheric Administration (NOAA), Commerce.

ACTION: Notice of public meetings.

SUMMARY: The Mid-Atlantic Fishery Management Council (Council), its Bycatch/Limited Access Privilege Program (LAPP) Committee, its Ecosystem Committee, its Tilefish Committee, its Executive Committee, and its Law Enforcement Committee will hold public meetings.

DATES: The meetings will be held on Tuesday, February 13, 2007 through Thursday, February 15, 2007. See SUPPLEMENTARY INFORMATION for specific dates and times.

ADDRESSES: This meeting will be held at the Holiday Inn Select, 630 Naamans Rd., Claymont, DE; telephone: (302) 791-2700.

Council address: Mid-Atlantic Fishery Management Council, 300 S. New Street, Dover, DE 19904.

FOR FURTHER INFORMATION CONTACT: Daniel T. Furlong, Executive Director, Mid-Atlantic Fishery Management Council; telephone: (302) 674-2331, ext. 19.

SUPPLEMENTARY INFORMATION:

Tuesday, February 13, 2007

10 a.m. to 12 noon - The Bycatch/LAPP Committee will meet.

1 p.m. to 4 p.m. - The Ecosystem Committee will meet.

4 p.m. to 5:30 p.m. - The Tilefish Committee with meet.

Wednesday, February 14, 2007

8 a.m. to 10 a.m. - The Executive Committee will meet.

10 a.m. - The Council will convene, at which time Regular Council business will be conducted. The Council will receive a report on the outcome on the 44th Stock Assessment Review.

2 p.m. to 4 p.m. - The Council will review Framework 7 to the Summer Flounder, Scup, and Black Sea Bass Fishery Management Plan (FMP) [Meeting1].

4 p.m. to 5 p.m. - The Council will meet to review and approve Amendment 14 to Summer Flounder, Scup, and Black Sea Bass FMP [Scup Rebuilding Plan].

Thursday, February 15, 2007

8 a.m. to 9 a.m. - The Law Enforcement Committee will meet.

9 a.m. to 10:30 a.m. - The Council will convene and receive a presentation on Northeast Monitoring Program (NEAMAP).

10:30 a.m. to 11 a.m. - The Council will received an update from the South Atlantic Council regarding its Snapper-Grouper FMP.

11 a.m. to 11:30 a.m. - The Council will review and adopt Amendment 9 to Squid, Mackerel, Butterfish FMP.

11:30 a.m. to 12:30 p.m. - The Council will discuss Amendment 10 to the Squid, Mackerel, Butterfish FMP.

1:30 p.m. until adjournment - The Council will receive committee reports and address any continuing or new business.

Agenda items for the Council's committees and the Council itself are:

The Bycatch/LAPP Committee will review and evaluate public comments on proposed Standardized Bycatch Reporting Methodology (SBRM) Amendment, discuss and develop a Council position regarding Secretarial submission of the SBRM Amendment, and review the reauthorized Magnuson-Stevens Act (MSA) LAPP charge.

The Ecosystems Committee will discuss: NMFS perspective on liquified natural gas (LNG) facilities and windmill farms, industry (Blue Water Wind) perspective on offshore energy sources, Ecosystem Approach to Fishery Management, reauthorized MSA study requirement for regional ecosystem based management and research, exclusive economic zone (EEZ) artificial reef management, Corps of Engineers (COE) permit conditions, and special management zones.

The Tilefish Committee will review Fishery Management Action Team (FMAT) progress regarding Amendment 1 and provide guidance regarding future actions.

The Executive Committee will review new requirements regarding the reauthorized MSA and associated timelines. As a minimum, the Committee will discuss the role of the Scientific and Statistical Committee (SSC) in future Council actions; discuss how best to integrate MSA and National Environmental Protection Agency (NEPA); address overcapitalization and excess harvesting capacity; and, discuss the integration of cooperative research, experimental fishing permits and research set-aside (RSA). The Committee will also discuss utilization of Joint Atlantic States Marine Fisheries Commission/Mid-Atlantic Fishery Management Council (ASMFC/MAFMC) advisors.

When the Council convenes, it will conduct its regular business session and receive a report on the 44th Stock Assessment Review to include surfclams, ocean quahogs and skate. Meeting 1 of Framework 7 to Summer Flounder, Scup, and Black Sea Bass FMP will be held to review options/alternatives regarding a mechanism to change biological reference points during the specification setting process following stock assessment reviews. The Council will then review and discuss public hearing and written comments concerning Amendment 14 to the Summer Flounder, Scup, and Black Sea Bass FMP [Scup Rebuilding Plan], decide and adopt final measures to be included in Amendment 14, and approve Amendment 14 for Secretarial submission.

The Law Enforcement Committee will discuss enforcement priorities for the 2007 fishing year, address maritime security issues impacting the fishing industry, and develop list of potential actions for the Committee in 2007.

The Council will receive a presentation on the NEAMAP and receive an update from the South Atlantic Council regarding its Snapper-Grouper FMP. The Council will review and approve Amendment 9 to Squid, Mackerel, and Butterfish FMP for Secretarial submission. The Council will receive an update on the timeline and status of butterfish rebuilding efforts and discuss the use and role of SSC in addressing butterfish stock rebuilding (Amendment 10 to Squid, Mackerel, and Butterfish FMP). This will be followed by committee reports and any continuing or new business.

Although non-emergency issues not contained in this agenda may come before the Council for discussion, these issues may not be the subject of formal Council action during these meetings. Council action will be restricted to those issues specifically listed in this notice and any issues arising after publication of this notice that require emergency action under section 305(c) of the Magnuson-Stevens Act, provided the public has been notified of the Council's intent to take final actions to address such emergencies.

Special Accommodations

These meetings are physically accessible to people with disabilities. Requests for sign language interpretation or other auxiliary aids should be directed to M. Jan Saunders, (302) 674-2331 ext: 18, at least 5 days prior to the meeting date.

Dated: January 25, 2007.
Tracey L. Thompson,
Acting Director, Office of Sustainable Fisheries, National Marine Fisheries Service.

[FR Doc. E7-1389 Filed 1-29-07; 8:45 am]

BILLING CODE 3510-22-S